DEPARTMENT OF COMMERCE

Foreign-Trade Zones Board

[B-35-2014]

Foreign-Trade Zone 177—Indianapolis, Indiana; Authorization of Production Activity; Best Chair, Inc. d/b/a Best Home Furnishings (Upholstered Furniture); Ferdinand, Cannelton, and Paoli, Indiana

On April 22, 2014, the Ports of Indiana, grantee of FTZ 177, submitted a notification of proposed production activity to the Foreign-Trade Zones (FTZ) Board on behalf of Best Chair, Inc. d/b/a Best Home Furnishings, in Ferdinand, Cannelton, and Paoli, Indiana.

The notification was processed in accordance with the regulations of the FTZ Board (15 CFR part 400), including notice in the Federal Register inviting public comment (79 FR 25570, 3-5-2014). The FTZ Board has determined that no further review of the activity is warranted at this time. The production activity described in the notification is authorized, subject to the FTZ Act and the FTZ Board's regulations, including Section 400.14, and the existing restrictions and conditions established under Board Order 1807 (77 FR 6536, 2-8-2012).

Dated: August 22, 2014.
Andrew McGilvray,
Executive Secretary.

[FR Doc. 2014-20655 Filed 8-28-14; 8:45 am]

BILLING CODE 3510-DS-P